NUCLEAR REGULATORY COMMISSION

[NRC-2014-0243]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 16, 2014 to October 29, 2014. The last biweekly notice was published on October 28, 2014.

DATES: Comments must be filed by December 12, 2014. A request for a hearing must be filed by January 12, 2015.

ADDRESSES: You may submit comments by any of the following methods (unless this document describes a different method for submitting comments on a specific subject):

• Federal Rulemaking Web site: Go to http://www.regulations.gov and search for Docket ID NRC-2014-0243. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington, DC 20555-0001; telephone: 301-415-2976, email: Angela.Baxter@nrc.gov.

SUPPLEMENTARY INFORMATION:

I. Obtaining Information and Submitting Comments

A. Obtaining Information

Please refer to Docket ID NRC-2014-0243 when contacting the NRC about the availability of information for this action. You may obtain publicly-available information related to this action by any of the following methods:

• Federal rulemaking Web site: Go to http://www.regulations.gov and search for Docket ID NRC-2014-0243.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0243 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR Part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

DTE Electric Company, Docket No. 50-341, Fermi 2, Monroe County, Michigan

Date of amendment request: September 16, 2014. A publicly-available version is in ADAMS under Accession No. ML14259A564.

Description of amendment request: The proposed amendment would modify the technical specifications (TS) by relocating specific surveillance frequencies to a licensee-controlled program with the adoption of Technical Specification Task Force (TSTF)—425, Revision 3, “Relocate Surveillance Frequencies to Licensee Control—RITSTF Initiative 5b” (ADAMS Accession No. ML080280275). Additionally, the change would add a new program, the Surveillance Frequency Control Program (SFCP), to Section 5.5, “Programs and Manuals” of the TS.

Basis for proposed no significant hazards consideration determination: As required by 10 CFR 50.91(a), the licensee has provided its analysis of the issue of no significant hazards consideration, which is presented below:

1. Do the proposed changes involve a significant increase in the probability or consequences of any accident previously evaluated?

Response: No.

The proposed changes relocate the specified frequencies for periodic surveillance requirements to licensee control under a new Surveillance Frequency Control Program. Surveillance frequencies are not an initiator to any accident previously evaluated. As a result, the probability of any accident previously evaluated is not significantly increased. The systems and components required by the TSs for which the surveillance frequencies are relocated are still required to be operable, meet the acceptance criteria for the surveillance requirements, and be capable of performing any mitigation function assumed in the accident analysis. As a result, the consequences of any accident previously evaluated are not significantly increased.

Therefore, the proposed changes do not involve a significant increase in the probability or consequences of an accident previously evaluated.

2. Do the proposed changes create the possibility of a new or different kind of accident from any previously evaluated?

Response: No.

No new or different accidents result from utilizing the proposed changes. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Do the proposed changes involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, DTE Electric Company (DTE) will perform a probabilistic risk evaluation using the guidance contained in NRC approved NEI 04-10, Revision 1, in accordance with the TS SFCP. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Bruce R. Maters, DTE Energy, General Counsel—Regulatory, 688 WCB, One Energy Plaza, Detroit, MI 48226-1279.

NRC Branch Chief: David L. Pelton.

Duke Energy Carolinas, LLC, Docket Nos. 50-413 and 50-414, Catawba Nuclear Station, Units 1 and 2, York County, South Carolina; Docket Nos. 50-369 and 50-370, McGuire Nuclear Station, Units 1 and 2, Mecklenburg County, North Carolina; and Docket Nos. 50-269, 50-270, and 50-287, Oconee Nuclear Station, Units 1, 2, and 3, Oconee County, South Carolina

Date of amendment request: July 21, 2014. A publicly-available version is in ADAMS under Accession No. ML14212A502.

Description of amendment request: The amendment would revise the licensed operator training requirements to be consistent with the National Academy for Nuclear Training (NANT) program. Additionally, the amendment would make administrative changes to Technical Specification Sections 5.1, “Responsibility”; 5.2, “Organization”; 5.3, “Unit Staff Qualifications”; 5.5, “Programs and Manuals”; and for Catawba and McGuire, Section 5.7, “High Radiation Area.”

Basis for proposed no significant hazards consideration determination: As required by 10 CFR 50.91(a), the licensee has provided its analysis of the issue of no significant hazards consideration, with NRC edits in square brackets, which is presented below:

1. Does the proposed amendment involve a significant increase in the probability or consequences of an accident previously evaluated?

Response: No.

The proposed Technical Specification (TS) changes regarding organization, unit staff responsibility and unit staff qualifications are administrative changes to clarify the current requirements for Duke Energy's licensed operator qualifications and training program. With this change, the TSs continue to meet the current requirements of 10 CFR 55. Although licensed operator qualifications and training may have an indirect impact on accidents previously evaluated, the [Nuclear Regulatory Commission (NRC)] considered this impact during the rulemaking process, and by promulgation of the revised 10 CFR 55 rule, concluded that this impact remains acceptable as long as the licensed operator training programs are certified to be accredited and are based on a systems approach to training. The proposed TS change takes credit for the National Academy for Nuclear Training (NANT) accreditation of the licensed operator training program.

The proposed TS change regarding responsibility, organization and high radiation area is administrative in nature to reflect the current titles and responsibilities of station personnel and is consistent with Standard Technical Specifications (STS).

Therefore, the proposed amendment does not involve a significant increase in the probability or consequences of an accident previously analyzed.

2. Does the proposed amendment create the possibility of a new or different kind of accident from any accident previously evaluated?

Response: No.

The proposed TS changes are administrative changes to clarify the current requirements for Duke Energy's licensed operator qualifications and training program and to conform to the revised 10 CFR 55. Similar to the discussion above, although licensed operator qualifications and training may have an indirect impact on the possibility of a new or different kind of accident from any accident previously evaluated, the [NRC] considered this impact during the rulemaking process, and by promulgation of the revised rule concluded that this impact remains acceptable as long as licensed operator training programs are certified to be accredited and based on a systems approach to training. As previously noted, the Duke Energy licensed operator training program is accredited by NANT and is based on a systems approach to training. The proposed TS change takes credit for the NANT accreditation of the licensed operator training program.

The proposed TS change regarding responsibility, organization and high radiation area does not impact any plant systems that are accident initiators nor does the proposed change adversely impact any accident mitigating system. No physical changes are being made to the plant. This change is administrative in nature to reflect the current titles and responsibilities of station personnel and to be consistent with STS.

The proposed amendment does not impact plant design, hardware, system operation or procedures, and therefore does not create the possibility of a new or different kind of accident from any previously evaluated.

3. Does the proposed amendment involve a significant reduction in the margin of safety?

Response: No.

The proposed [TS] change regarding unit staff qualifications is an administrative change to clarify the current requirements applicable to Duke Energy's licensed operator qualifications and training program. With this change, the TS continue to meet the current requirements of 10 CFR 55. Although licensed operator qualifications and training may have an indirect impact on accidents previously evaluated, the NRC considered this impact during the rulemaking process, and by promulgation of the revised 10 CFR 55 rule, concluded that this impact remains acceptable as long as the licensed operator training programs are certified to be accredited and are based on a systems approach to training. As noted previously, the Duke Energy licensed operator training program is accredited by NANT and is based on a systems approach to training.

The NRC has concluded per NUREG-1262, that the standards and guidelines provided by the Institute for Nuclear Power Operations' NANT are equivalent to those put forth or endorsed by the NRC. As a result, maintaining a NANT accredited, systems approach based licensed operator training program is equivalent to maintaining an NRC approved licensed operator training program. Furthermore, the NRC published Regulatory Issue Summary (RIS) 2001-001 to familiarize licensees with the NRC's current guidelines for the qualification and training of Reactor Operator and Senior Operator license applicants. This document again acknowledges that the NANT guidelines for education and experience outline acceptable methods for implementing the NRC's regulations in this area. The margin of safety is maintained by virtue of maintaining the NANT accredited licensed operator training program.

The proposed TS change regarding responsibility, organization and high radiation area is administrative in nature to reflect the current titles and responsibilities of station personnel and is consistent with STS. Systems and components are not impacted and therefore are capable of performing as designed. The performance of fission product barriers will not be impacted by the proposed change.

Therefore, the proposed changes do not involve a significant reduction in the margin of safety.

Based on the above discussion, Duke Energy concludes that the proposed amendment presents no significant hazards consideration under the standards set forth in 10 CFR 50.92(c) and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Energy Northwest, Docket No. 50-397, Columbia Generating Station (CGS), Benton County, Washington

Date of amendment request: August 12, 2014, as supplemented by letter dated September 9, 2014. Publicly-available versions are in ADAMS under Accession Nos. ML14234A457, and ML14268A233, respectively.

Description of amendment request: The amendment would revise the CGS Technical Specifications (TSs) to risk-inform requirements regarding selected Required Action end states by incorporating TS Task Force (TSTF) traveler TSTF-423, Revision 1, “Technical Specifications End States, NEDC-32988-A.” The Notice of Availability for TSTF-423, Revision 1, was published in the Federal Register on February 18, 2011 (76 FR 9164).

Basis for proposed no significant hazards consideration determination: As required by 10 CFR 50.91(a), the licensee has provided its analysis of the issue of no significant hazards consideration, which is presented below:

1. Does the proposed change involve a significant increase in the probability or consequences of an accident previously evaluated?

Response: No.

The proposed change allows a change to certain required end states when the TS Completion Times for remaining in power operation will be exceeded. Most of the requested technical specification (TS) changes are to permit an end state of hot shutdown (Mode 3) rather than an end state of cold shutdown (Mode 4) contained in the current TS. The request was limited to: (1) Those end states where entry into the shutdown mode is for a short interval, (2) entry is initiated by inoperability of a single train of equipment or a restriction on a plant operational parameter, unless otherwise stated in the applicable TS, and (3) the primary purpose is to correct the initiating condition and return to power operation as soon as is practical. Risk insights from both the qualitative and quantitative risk assessments were used in specific TS assessments. Such assessments are documented in Section 6 of topical report NEDC-32988-A, Revision 2, “Technical Justification to Support Risk Informed Modification to Selected Required Action End States for BWR [Boiling-Water Reactor] Plants.” They provide an integrated discussion of deterministic and probabilistic Issues, focusing on specific TSs, which are used to support the proposed TS end state and associated restrictions. The risk insights support the conclusions of the specific TS assessments. Therefore, the probability of an accident previously evaluated is not significantly increased, if at all. The consequences of an accident after adopting TSTF-423 are no different than the consequences of an accident prior to adopting TSTF-423. Therefore, the consequences of an accident previously evaluated are not significantly affected by this change. The addition of a requirement to assess and manage the risk introduced by this change will further minimize possible concerns.

Therefore, the proposed change does not involve a significant Increase in the probability or consequences of an accident previously evaluated.

2. Does the proposed change amendment create the possibility of a new or different kind of accident from any accident previously evaluated?

Response: No.

The proposed change does not involve a physical alteration of the plant (no new or different type of equipment will be installed). If risk is assessed and managed, allowing a change to certain required end states when the TS Completion Times for remaining in power operation are exceeded (i.e., entry into hot shutdown rather than cold shutdown to repair equipment) will not introduce new failure modes or effects and will not, in the absence of other unrelated failures, lead to an accident whose consequences exceed the consequences of accidents previously evaluated. The addition of a requirement to assess and manage the risk introduced by this change and the commitment by Energy Northwest to adhere to the guidance in TSTF-IG-05-02, “Implementation Guidance for TSTF-423, Revision 1, `Technical Specifications End States, NEDC-32988-A,' ” will further minimize possible concerns.

Thus, based on the above, this change does not create the possibility of a new or different-kind of accident from an accident previously evaluated.

3. Does the proposed change involve a significant reduction in a margin of safety?

Response: No.

The proposed change allows, for some systems, entry into hot shutdown rather than cold shutdown to repair equipment, if risk is assessed and managed. The BWROG's [BWR Owners Group's] risk assessment approach is comprehensive and follows NRC staff guidance as documented in Regulatory Guides (RG) 1.174 and 1.177. In addition, the analyses show that the criteria of the three-tiered approach for allowing TS changes are met. The risk impact of the proposed TS changes was assessed following the three-tiered approach recommended in RG 1.177.

A risk assessment was performed to justify the proposed TS changes. The net change to the margin of safety is insignificant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

Entergy Gulf States Louisiana, LLC, and Entergy Operations, Inc., Docket No. 50-458, River Bend Station, Unit 1 (RBS), West Feliciana Parish, Louisiana

Date of amendment request: July 9, 2014. A publicly-available version is in ADAMS under Accession No. ML14212A396.

Description of amendment request: The amendment would modify the RBS Surveillance Requirements (SRs) related to Technical Specification 3.8.1, “AC [Alternating Current] Sources—Operating.” Specifically, the proposed changes will lower the upper bound of the frequency SR Acceptance Criteria Tolerance Band (ACTB), lower the upper bound of the voltage SR ACTB for diesel generator (DG) 1A and DG 1B (existing DG 1C voltage SR ACTB is retained), and raise the lower bound of the test load SR ACTB.

Basis for proposed no significant hazards consideration determination: As required by 10 CFR 50.91(a), the licensee has provided its analysis of the issue of no significant hazards consideration, which is presented below:

1. Does the proposed change involve a significant increase in the probability or consequences of an accident previously evaluated?

Response: No.

The EDGs [emergency diesel generators] are not initiators for accidents evaluated in the USAR [Updated Safety Analysis Report]. The proposed changes do not alter the capability of the EDGs or their supporting systems to start, load and perform their intended functions as described in the USAR. The proposed changes do not impact the initiators of analyzed events, nor do they impact the mitigation of accidents.

The proposed changes enable SR testing to demonstrate sufficient margin to ensure that the EDGs and equipment being powered by the EDGs will function as required to mitigate an accident as described in the USAR. Thus, the EDGs will be capable of performing their accident mitigation function as described in the USAR, and there is no impact on the consequences of accident analyses.

The proposed changes increase the minimum EDG test loads, but the upper limits of the test loads are not changed. Furthermore, the test program (number and type of SR starts, test loads and run length) is not changed. Therefore, the effect of the proposed changes on EDG wear and/or reliability is negligible, and the proposed changes will not reduce EDG reliability from the current value of 95%.

Therefore, the proposed changes do not involve a significant increase in the probability or consequences of an accident previously evaluated.

2. Does the proposed change create the possibility of a new or different kind of accident from any accident previously evaluated?

Response: No.

The proposed changes do not involve any physical alteration of the plant (e.g., no new or different type of equipment will be installed), or a change in the methods governing EDG operation. The changes ensure margin between the EDG SR test loads and the EDG maximum calculated loads and that the EDGs operate as assumed in the accident analyses.

The purposes of the EDG surveillance tests are to confirm the capability of each EDG to start and achieve the minimum conditions required to accept the loads in the accident analysis. No changes are being made in operating philosophy, testing frequency, how EDGs operate or how EDGs are physically tested. The proposed changes do not affect the EDGs' ability to supply minimum voltage and frequency within 10 seconds (DG 1A and DG 1B), 13 seconds (DG 1C) or the minimum steady state voltage and frequency. The EDGs will continue to perform their intended safety function in accordance with the safety analysis. Therefore, the proposed changes do not affect safety analysis assumptions.

The proposed changes do not degrade the EDGs, the circuits connected to the EDGs or the equipment powered by the EDGs. Therefore, no new failure modes or effects are introduced that could create the possibility of a new or different kind of accident from any previously evaluated.

The proposed changes do not affect the initiators of analyzed events, nor do they affect the mitigation of accidents.

Therefore, the proposed changes do not create the possibility of a new or different kind of accident from any accident previously evaluated.

3. Does the proposed change involve a significant reduction in a margin of safety?

Response: No.

The proposed changes enable SR testing to demonstrate sufficient margin between demonstrated EDG capability in the surveillance tests and maximum calculated EDG loads to ensure that the EDGs and equipment being powered by the EDGs will function as required to mitigate an accident as described in the USAR. Thus the proposed changes do not involve a significant reduction in the EDG electrical load margin.

The proposed changes increase the minimum EDG test loads, but the upper limits of the test loads are not changed. Furthermore, the test program (number and type of SR starts, test loads and run length) is not changed. Therefore, the effect of the proposed changes on EDG wear and/or reliability is negligible and the proposed changes do not involve a significant reduction in the EDG physical margin.

The margin of safety is related to the confidence in the ability of the fission product barriers to perform their design functions during and following an accident situation. These barriers include the fuel cladding, the reactor coolant system, and the containment system. The proposed changes do not directly affect these barriers, nor do they involve any adverse impact on the EDGs that serve to support these barriers in the event of an accident concurrent with a loss of offsite power. The proposed changes do not affect the EDG's capabilities to provide emergency power to plant equipment that mitigates the consequences of the accident. In summary: the proposed changes have no affect the ability of the EDGs to start and load; no change is made to the accident analysis assumptions; no margin of safety is reduced as part of this change; and the margin between the calculated emergency loads and minimum test load is ensured.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Douglas A. Broaddus.

Exelon Generation Company, LLC, and PSEG Nuclear LLC, Docket Nos. 50-277 and 50-278, Peach Bottom Atomic Power Station (PBAPS), Units 2 and 3, York and Lancaster Counties, Pennsylvania

Date of application for amendments: September 3, 2014. A publicly-available version is in ADAMS under Accession No. ML14247A522.

Description of amendment request: The proposed amendment would revise the Technical Specifications to eliminate the Main Steam Line Radiation Monitor (MSLRM) from initiating: (1) A Reactor Protection System automatic reactor scram; and (2) a Primary Containment Isolation System isolation including automatic closure of the Main Steam Line Isolation Valves (MSIVs), Main Steam Line (MSL) drain valves, MSL sample line valves, Residual Heat Removal (RHR) system sample line valves, and Reactor Recirculation loop sample line valves. Existing requirements for the Mechanical Vacuum Pump (MVP) would be retained in the Technical Requirements Manual (TRM).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes eliminate the MSLRM trip and isolation function from initiating an automatic reactor scram and automatic closure of the MSIVs. The justification for eliminating the MSLRM trip and isolation functions is based on the NRC-approved evaluation provided in General Electric's (GE's) Licensing Topical Report (LTR) NEDO-31400A, “Safety Evaluation for Eliminating the Boiling Water Reactor Main Steam Line Isolation Valve Closure Function and Scram Function of the Main Steam Line Radiation Monitor,” dated October 1992. The proposed changes also include the elimination of the MSLRM isolation function from closing the MSL drain valves, MSL sample line valves, RHR system sample line valves, and Reactor Recirculation loop sample line valves. The identified sample lines are small in comparison to the size of MSLs, and therefore, the effects of not isolating these lines for at least one hour is considered small and is supported by the dose analyses. The MSLRM system is not an initiator of any accident previously evaluated. Retaining requirements for the MVP in the TRM will ensure that appropriate measures and requirements are in place such that any release of radioactive material released from a gross fuel failure will be contained in the Main Condenser and processed through the Offgas System.

The proposed changes do not introduce new equipment or new equipment operating modes. The proposed changes do not increase system or component pressures, temperatures, or flowrates for systems designed to prevent accidents or mitigate the consequences of an accident. There are no changes or modifications to the MVP. The MVP will continue to function as designed in all required modes of operation. Since these conditions do not change, the likelihood of a failure or malfunction of a Structure, System, or Component (SSC) is not increased. As a result, the probability of any accident previously evaluated is not significantly increased. The consequences of an accident previously evaluated (i.e., the Control Rod Drop Accident (CRDA)), have been evaluated consistent with the PBAPS licensing basis, which is based on Alternative Source Term (10 CFR 50.67). As demonstrated by the supporting dose analyses, the consequences of the accident are within the regulatory acceptance criterion. As a result, the consequences of any accident previously evaluated are not significantly increased.

Based on the above, Exelon concludes that the proposed changes do not involve a significant increase in the probability or consequences of an accident previously evaluated.

2. Does the proposed amendment create the possibility of a new or different kind of accident from any accident previously evaluated?

Response: No.

No new or different accidents result from the proposed changes. The proposed changes do not involve a change in the method of operation of plant SSC. The proposed changes do not increase system or component pressures, temperatures, or flowrates. There is no new system component being installed, no construction of a new facility, and no performance of a new test or maintenance function. The MVP will continue to function as designed in all required modes of operation. Since these conditions do not change, the proposed changes will not create the possibility of a new or different kind of accident. Retaining requirements for the MVP in the TRM will ensure that appropriate measures and requirements are in place such that any release of radioactive material released from a gross fuel failure will be contained in the Main Condenser and processed through the Offgas System. The elimination of the MSLRM trip and isolation functions as described is only credited in the CRDA analysis and no other event in the safety analysis. The proposed changes are consistent with the revised safety analysis assumptions for a CRDA as described in this license amendment request.

Based on the above discussion, Exelon concludes that the proposed changes do not create the possibility of a new or different kind of accident from any accident previously evaluated.

3. Does the proposed amendment involve a significant reduction in a margin of safety?

Response: No.

The proposed changes eliminate the MSLRM trip and isolation functions from initiating an automatic reactor scram and automatic closure of the MSIVs along with closing of the MSL drain valves, MSL sample line valves, RHR system sample line valves, and Reactor Recirculation loop sample line valves and are justified based on the NRC-approved LTR NEDO-31400A and supporting dose analysis. Retaining requirements for the MVP in the TRM will ensure that appropriate measures and requirements are in place such that any release of radioactive material from a gross fuel failure will be contained in the Main Condenser and processed through the Offgas System.

The proposed changes do not increase system or component pressures, temperatures, or flowrates for systems designed to prevent accidents or mitigate the consequences of an accident. Analyses performed consistent with the PBAPS licensing basis, demonstrate that the removal of the trip and isolation functions as described will not cause a significant reduction in the margin of safety, as the resulting offsite dose consequences are being maintained within regulatory limits. The proposed changes do not exceed or alter a design basis or a safety limit for a parameter to be described or established in the Updated Final Safety Analysis Report (UFSAR) or the Renewed Facility Operating License (FOL).

As a result, Exelon concludes that the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for Licensee: J. Bradley Fewell, Esquire, Vice President and Deputy General Counsel, Exelon Generation Company, LLC, 200 Exelon Way, Kennett Square, PA 19348.

NRC Branch Chief: Meena K. Khanna.

NextEra Energy Point Beach, LLC, Docket Nos. 50-266 and 50-301, Point Beach Nuclear Plant, Units 1 and 2, Town of Two Creeks, Manitowac County, Wisconsin

Date of amendment request: July 2, 2014. A publicly-available version is in ADAMS under Accession No. ML14183A944.

Description of amendment request: The proposed amendment would modify the technical specifications (TSs) to address U.S. Nuclear Regulatory Commission (NRC) Generic Letter 2008-01, “Managing Gas Accumulation in Emergency Core Cooling, Decay Heat Removal, and Containment Spray Systems,” by adoption of Technical Specifications Task Force (TSTF) Traveler TSTF-523, “Generic Letter 2008-01, Managing Gas Accumulation,” Revision 2. The proposed change revises and adds TS surveillance requirements (SRs) to verify that the system locations susceptible to gas accumulation are sufficiently filled with water and to provide allowances which permit performance of the verification.

Basis for proposed no significant hazards consideration determination: As required by 10 CFR 50.91(a), the licensee has provided its analysis of the issue of no significant hazards consideration, which is provided below:

1. Does the proposed change involve a significant increase in the probability or consequences of an accident previously evaluated?

Response: No.

The proposed change revises and adds SRs that require verification that the Emergency Core Cooling System (ECCS), Residual Heat Removal (RHR) System, and the Containment Spray System are not rendered inoperable due to accumulated gas and to provide allowances which permit performance of the revised verification. Gas accumulation in the subject systems is not an initiator of any accident previously evaluated. As a Result, the probability of any accident previously evaluated is not significantly increased. The proposed SRs ensure that the subject systems continue to be capable of performing their assumed safety function and are not rendered inoperable due to gas accumulation. Thus, the consequences of an accident previously evaluated are not significantly increased.

Therefore, the proposed change does not involve a significant increase in the probability or consequences of an accident previously evaluated.

2. Does the proposed change create the possibility of a new or different kind of accident from any accident previously evaluated?

Response: No.

The proposed change revises and adds SRs that require verification that the ECCS, RHR System, and Containment Spray System are not rendered inoperable due to accumulated gas and to provide allowances which permit performance of the revised verification. The proposed change does not involve a physical alternation of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, RHR System, and Containment Spray System are not rendered inoperable due to accumulated gas and to provide allowances which permit performance of the revised verification. The proposed change adds new requirements to manage gas accumulation in order to ensure that the subject systems are capable of performing their assumed safety functions. The proposed SRs are more comprehensive that the current SRs and will ensure that the assumptions of the safety analysis are protected. The proposed change does not adversely affect any current plant safety margins or the reliability of the equipment assumed in the safety analysis. Therefore, there are no changes being made to any safety analysis assumptions, safety limits, or limiting safety system settings that would adversely affect plant safety as a result of the proposed change.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William Blair, Managing Attorney—Nuclear, Florida Power & Light Company, P.O. Box 14000, 700 Universe Boulevard, Juno Beach, FL 33408-0420.

NRC Branch Chief: David L. Pelton.

NextEra Energy Point Beach, LLC, Docket Nos. 50-266 and 50-301, Point Beach Nuclear Plant, Units 1 and 2, Town of Two Creeks, Manitowac County, Wisconsin

Date of amendment request: July 3, 2014. A publicly-available version is in ADAMS under Accession No. ML14190A267.

Description of amendment request: The proposed amendment would modify the technical specifications (TSs) by relocating specific surveillances to a licensee-controlled program by adoption of Technical Specifications Task Force (TSTF) Traveler TSTF-425, Revision 3, “Relocate Surveillance Frequencies to Licensee Control—Risk Informed Technical Specification Task Force (RITSTF) Initiative 5B.” The proposed change would also add a new program, the Surveillance Frequency Control Program, to TS Section 5.0, “Administrative Controls,” Subsection 5.5, “Programs and Manuals.”

Basis for proposed no significant hazards consideration determination: As required by 10 CFR 50.91(a), the licensee has provided its analysis of the issue of no significant hazards consideration, which is provided below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of any accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, NextEra will perform a probabilistic risk evaluation using the guidance contained in NRC-approved NEI 04-10, Revision 1, in accordance with the TS Surveillance Frequency Control Program. NEI 04-10, Revision 1, methodology provides reasonable acceptance guidelines and methods for evaluating the risk increase of proposed changes to surveillance frequencies consistent with Regulatory Guide (RG) 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: William Blair, Managing Attorney—Nuclear, Florida Power & Light Company, P.O. Box 14000, 700 Universe Boulevard, Juno Beach, FL 33408-0420.

NRC Branch Chief: David L. Pelton.

South Carolina Electric and Gas Company Docket Nos. 52-027 and 52-028, Virgil C. Summer Nuclear Station (VCSNS) Units 2 and 3, Fairfield County, South Carolina

Date of amendment request: September 25, 2014. A publicly-available version is in ADAMS under Accession No. ML14268A388.

Description of amendment request: The proposed changes would revise the Combined Licenses (COLs) by increasing the tolerances listed for four concrete thicknesses in COL Appendix C and plant-specific Tier 1 Table 3.3-1, “Definition of Wall Thicknesses for Nuclear Island Buildings, Turbine Building, and Annex Building,” from ±1″ to ±1¼″ for one wall and from ±1″ to ±1⅝″ for the remaining three walls.

Because, this proposed change requires a departure from Tier 1 information in the Westinghouse Advanced Passive 1000 Design Control Document (DCD), the licensee also requested an exemption from the requirements of the Generic DCD Tier 1 in accordance with 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

As indicated in the Updated Final Safety Analysis Report Subsection 3.8.3.1, the containment internal structures and associated modules support the reactor coolant system components and related piping systems and equipment. The increase in tolerance associated with the concrete thickness of four of these containment internal structure walls do not involve any accident initiating components or events, thus leaving the probabilities of an accident unaltered. The increased tolerance does not adversely affect any safety-related structures or equipment nor does the increased tolerance reduce the effectiveness of a radioactive material barrier. Thus, the proposed changes would not affect any safety-related accident mitigating function served the containment internal structures.

Therefore, the proposed amendment does not involve a significant increase in the probability or consequences of an accident previously evaluated.

2. Does the proposed amendment create the possibility of a new or different kind of accident from any accident previously evaluated?

Response: No.

The proposed tolerance increases do not change the performance of the affected containment internal structures. As demonstrated by the continued conformance to the applicable codes and standards governing the design of the structures, the walls with an increased concrete thickness tolerance continue to withstand the same effects as previously evaluated. There is no change to the design function of the affected modules and walls, and no new failure mechanisms are identified as the same types of accidents are presented to the walls before and after the change.

Therefore, the proposed amendment does not create the possibility of a new or different kind of accident from any accident previously evaluated.

3. Does the proposed amendment involve a significant reduction in a margin of safety?

Response: No.

The proposed change to increase the concrete thickness tolerance does not alter any design code compliance, design function, design analysis, or safety analysis input or result. As such, because the system continues to respond to design basis accidents in the same manner as before without any changes to the expected response of the structure, no safety analysis or design basis acceptance limit/criterion is challenged or exceeded by the proposed changes. Accordingly, no safety margin is reduced by the increase of the wall concrete thickness tolerance.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

Southern Nuclear Operating Company, Inc., Docket Nos. 52-025 and 52-026, Vogtle Electric Generating Plant, Units 3 and 4, Burke County, Georgia

Date of amendment request: August 14, 2014. A publicly-available version is in ADAMS under Accession No. ML14227A707.

Description of amendment request: The proposed change would amend Combined License Nos. NPF-91 and NPF-92 for the Vogtle Electric Generating Plant (VEGP) Units 3 and 4. The requested amendment proposes changes to revise the VEGP Updated Final Safety Analysis Report (UFSAR), involving Tier 1 and associated Tier 2 departures that address the removal of an unneeded supply line from the Compressed and Instrument Air System (CAS) to the generator breaker package.

Because this proposed change requires a departure from Tier 1 information in the Westinghouse Advanced Passive 1000 design control document (DCD), the licensee also requested an exemption from the requirements of the Generic DCD Tier 1 in accordance with 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed change deletes a nonsafety-related air supply line to the (main) generator circuit breaker (GCB) from the CAS. The proposed changes do not involve any accident initiating component/system failure or event, thus the probabilities of the accidents previously evaluated are not affected. The affected equipment does not affect or interact with safety-related equipment or a radioactive material barrier, and this activity does not involve the containment of radioactive material. Thus, the proposed changes would not affect any safety-related accident mitigating function. The radioactive material source terms and release paths used in the safety analyses are unchanged, thus the radiological releases in the UFSAR accident analyses are not affected.

Therefore, the proposed amendment does not involve an increase in the probability or consequences of an accident previously evaluated.

2. Does the proposed amendment create the possibility of a new or different kind of accident from any accident previously evaluated?

Response: No.

The proposed change deletes a nonsafety-related air supply line to the GCB from CAS. No structure, system or component (SSC) or design function is affected, thus no equipment whose failure could initiate an accident is involved. No new interface with components that contain radioactive material is created. The proposed change does not create a new fault or sequence of events that could result in a radioactive material release.

Therefore, the proposed amendment does not create the possibility of a new or different kind of accident.

3. Does the proposed amendment involve a significant reduction in a margin of safety?

Response: No.

The proposed change deletes a nonsafety-related air supply line to the GCB from CAS. The proposed changes do not affect any safety-related equipment or function. The UFSAR Chapters 6 and 15 analyses are not affected. No safety analysis or design basis acceptance limit/criterion is challenged or exceeded by the proposed changes, thus a margin of safety is not directly nor indirectly affected.

Therefore, the proposed amendment does not reduce the margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket No. 50-244, R.E. Ginna Nuclear Power Plant, Wayne County, New York

Date of amendment request: August 14, 2013, as supplemented by letter dated May 14, 2014. Publicly-available versions are available in ADAMS under Accession Nos. ML13228A265, and ML14139A342, respectively.

Brief description of amendment request: The amendment would modify the R.E. Ginna Nuclear Power Plant (Ginna) facility operating license, in accordance with § 50.90 and as required under Order EA-13-092. The amendment would also modify the license to reflect a grant of Section 161A of the Atomic Energy Act, to permit the licensee's security personnel to possess and use weapons, devices, ammunition, or other firearms, notwithstanding state, local, and certain federal firearms laws that may prohibit such use. The NRC refers to this authority as “stand-alone preemption authority.” The licensee is seeking stand-alone preemption authority for standard weapons presently in use at the Ginna facility in accordance with the Ginna security plans.

Date of publication of individual notice in Federal Register: October 27, 2014 (79 FR 63951).

Expiration date of individual notice: November 26, 2014, for public comments; December 26, 2014, for hearing requests.

Exelon Generation Company, LLC, Docket Nos. 50-220 and 50-410, Nine Mile Point Nuclear Station, Units 1 and 2, Oswego County, New York

Date of amendment request: August 14, 2013, as supplemented by letter dated May 14, 2014. Publicly-available versions are available in ADAMS under Accession Nos. ML13228A265, and ML14139A342, respectively.

Brief description of amendment request: The amendment would modify the Nine Mile Point Nuclear Station, Units 1 and 2 (Nine Mile Point) facility operating licenses, in accordance with § 50.90 and as required under Order EA-13-092. The amendment would also modify the license to reflect a grant of Section 161A of the Atomic Energy Act, to permit the licensee's security personnel to possess and use weapons, devices, ammunition, or other firearms, notwithstanding state, local, and certain federal firearms laws that may prohibit such use. The NRC refers to this authority as “stand-alone preemption authority.” The licensee is seeking stand-alone preemption authority for standard weapons presently in use at the Nine Mile Point facility in accordance with the Nine Mile Point security plans.

Date of publication of individual notice in Federal Register: October 27, 2014, (79 FR 63951).

Expiration date of individual notice: November 26, 2014, for public comments; December 26, 2014, for hearing requests.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of application of amendments: May 20, 2014.

Brief description of amendments: The amendments are administrative in nature to revise obsolete information that no longer pertains to the Technical Specifications related to the Reactor Protective System, the Engineered Safeguards Protective System, the Low Pressure Service Water Reactor Building Waterhammer Prevention Circuitry, and the Emergency Condenser Circulating Water System.

Date of Issuance: October 21, 2014.

Effective date: As of the date of issuance and shall be implemented within 60 days from the date of issuance.

Amendment Nos.: Unit 1, 388; Unit 2, 390; Unit 3, 389. A publicly-available version is in ADAMS under Accession No. ML14195A355; documents related to these amendments are listed in the Safety Evaluation enclosed with the amendments.

Renewed Facility Operating License Nos. DPR-38, DPR-47, and DPR-55: Amendments revised the licenses and the technical specifications.

Date of initial notice in Federal Register: August 5, 2014 (79 FR 45473).

The Commission's related evaluation of the amendments is contained in a Safety Evaluation dated October 21, 2014.

No significant hazards consideration comments received: No.

Entergy Nuclear Operations, Inc., Docket No. 50-255, Palisades Nuclear Plant, Van Buren County, Michigan

Date of amendment request: December 11, 2013.

Brief description of amendment: The amendment revises technical specification (TS) requirements to add a new Limiting Condition for Operation (LCO) Applicability requirement, LCO 3.0.9. The LCO establishes conditions under which TS systems would remain operable when required physical barriers are not capable of providing their related support function. The amendment is consistent with NRC-approved Technical Specification Task Force (TSTF) Standard Technical Specifications (STS) change TSTF-427, “Allowance for Non-Technical Specification Barrier Degradation on Supported System OPERABILITY,” Revision 2, using the consolidated line item improvement process.

Date of issuance: October 22, 2014.

Effective date: As of the date of issuance and shall be implemented within 90 days.

Amendment No.: 252. A publicly-available version is in ADAMS under Accession No. ML13345B160; documents related to this amendment are listed in the Safety Evaluation enclosed with the amendment.

Renewed Facility Operating License No. DPR-20: Amendment revised the Renewed Facility Operating License and Technical Specifications.

Date of initial notice in Federal Register: March 18, 2014 (79 FR 15148).

The Commission's related evaluation of the amendment is contained in a Safety Evaluation dated October 22, 2014.

No significant hazards consideration comments received: No.

Exelon Generation Company, LLC, Docket Nos. STN 50-456 and STN 50-457, Braidwood Station, Units 1 and 2, Will County, Illinois; Docket Nos. STN 50-454 and STN 50-455, Byron Station, Units 1 and 2, Ogle County, Illinois

Date of application for amendment: March 18, 2014.

Brief description of amendment: The amendment revises Technical Specifications (TS) 3.4.15, “RCS [Reactor Coolant System] Leakage Detection Instrumentation,” to define a new time limit for restoring inoperable RCS leakage detection instrumentation to operable status and establish alternate methods of monitoring RCS leakage when one or more required monitors are inoperable. The changes are consistent with NRC-approved Revision 3 to Technical Specification Task Force (TSTF) Improved Standard Technical Specification (STS) Change Traveler TSTF-513, “Revise PWR [pressurized-water reactor] Operability Requirements and Actions for RCS Leakage Instrumentation.” The availability of this TS improvement was announced in the Federal Register on January 3, 2011 (76 FR 189), as part of the consolidated line item improvement process.

Date of issuance: October 20, 2014.

Effective date: As of the date of issuance and shall be implemented within 60 days from the date of issuance.

Amendment Nos.: 179/185. A publicly-available version is in ADAMS under Accession No. ML14253A508; documents related to these amendments are listed in the Safety Evaluation enclosed with the amendments.

Facility Operating License Nos. NPF-72, NPF-77, NPF-37, and NPF-66: The amendments revised the Technical Specifications and License.

Date of initial notice in Federal Register: June 24, 2014 (79 FR 35804).

The Commission's related evaluation of the amendments is contained in a Safety Evaluation dated October 20, 2014.

No significant hazards consideration comments received: No.

Exelon Generation Company, LLC, Docket Nos. 50-317 and 50-318, Calvert Cliffs Nuclear Power Plant, Units 1 and 2, Calvert County, Maryland

Date of amendment request: October 31, 2013.

Brief description of amendments: The amendments revise Technical Specification (TS) 5.5.9, “Steam Generator (SG) Program,” and TS 5.6.9, “Steam Generator Tube Inspection Report,” to address implementation issues associated with the inspection periods. The amendments also revised TS 3.4.18, “Steam Generator (SG) Tube Integrity,” for administrative purposes. The revisions are consistent with Commission-approved Technical Specifications Task Force Standard Technical Specifications Change Traveler 510, Revision 2, “Revision to Steam Generator Program Inspection Frequencies and Tube Sample Selection.”

Date of issuance: October 29, 2014.

Effective date: As of the date of issuance and shall be implemented within 60 days of issuance.

Amendment Nos.: 308 and 286. A publicly-available version is in ADAMS under Accession No. ML14288A102; documents related to this these amendments are listed in the Safety Evaluation enclosed with the amendments.

Renewed Facility Operating License Nos. DPR-53 and DPR-69: The amendments revised the License and TSs.

Date of initial notice in Federal Register: July 22, 2014 (79 FR 42547).

The Commission's related evaluation of the amendments is contained in a Safety Evaluation dated October 29, 2014.

No significant hazards consideration comments received: No.

Exelon Generation Company, LLC, Docket Nos. 50-317 and 50-318, Calvert Cliffs Nuclear Power Plant, Units 1 and 2, Calvert County, Maryland

Date of amendment request: October 16, 2012, as supplemented by letters dated July 12, 2013, May 30, 2014, and September 3, 2014.

Brief description of amendments: The amendment revised Technical Specification (TS) 3.8.1, “AC [Alternating Current] Sources-Operating,” by adding Surveillance Requirement (SR) 3.8.1.17, and modifying SRs 3.8.1.8, 3.8.1.11, and 3.8.2.1. The revisions are related to diesel generator (DG) testing duration, loading requirements, and frequency of DG sequencer testing.

Date of issuance: October 21, 2014.

Effective date: As of the date of issuance and shall be implemented within 30 days after the end of the 2015 refueling outage.

Amendment Nos.: 307 and 285. A publicly-available version is in ADAMS under Accession No. ML14280A522; documents related to these amendments are listed in the Safety Evaluation enclosed with the amendments.

Renewed Facility Operating License Nos. DPR-53 and DPR-69: The amendments revised the Licenses and TSs.

Date of initial notice in Federal Register: March 4, 2013 (78 FR 14130). The supplemental letters dated July 12, 2013, May 30, 2014, and September 3, 2014, provided additional information that clarified the application, did not expand the scope of the application as originally noticed, and did not change the NRC staff's original proposed no significant hazards consideration determination as published in the Federal Register.

The Commission's related evaluation of the amendments is contained in a Safety Evaluation dated October 21, 2014.

No significant hazards consideration comments received: No.

Exelon Generation Company, LLC, Docket Nos. 50-317 and 50-318, Calvert Cliffs Nuclear Power Plant, Units 1 and 2, Calvert County, Maryland

Date of amendment request: October 2, 2012, as supplemented by letters dated November 26, 2012, July 1, 2013, February 7, 2014, and October 3, 2014.

Brief description of amendment: The amendments revised Technical Specification (TS) 3.8.3, “Diesel Fuel Oil” by removing the current stored diesel fuel oil numerical volume requirements from the TSs and replacing them with diesel generator (DG) operating time requirements consistent with NRC staff approved Technical Specifications Task Force Standard Technical Specifications Traveler 501, Revision 1, “Relocate Stored Fuel Oil and Lube Oil Volume Values to Licensee Control.” The amendments also revised TS 3.8.1, “AC [alternating current] Sources-Operating,” by replacing the specific DG day tank fuel oil numerical volume requirements with the requirement to maintain greater than or equal to a 1-hour supply of fuel oil.

Date of issuance: October 21, 2014.

Effective date: As of the date of issuance to be implemented within 60 days.

Amendment Nos.: 306 and 284. A publicly-available version is in ADAMS under Accession No. ML14239A491; documents related to these amendments are listed in the Safety Evaluation enclosed with the amendments.

Renewed Facility Operating License Nos. DPR-53 and DPR-69: The amendments revised the Licenses and TSs.

Date of initial notice in Federal Register: March 4, 2013 (78 FR 14130). The supplemental letters dated November 26, 2012, July 1, 2013, February 7, 2014, and October 3, 2014, provided additional information that clarified the application, did not expand the scope of the application as originally noticed, and did not change the NRC staff's original proposed no significant hazards consideration determination as published in the Federal Register.

The Commission's related evaluation of the amendment is contained in a Safety Evaluation dated October 21, 2014.

No significant hazards consideration comments received: No.

Northern States Power Company—Minnesota, Docket No. 50-263, Monticello Nuclear Generating Plant, Wright County, Minnesota

Date of amendment request: October 30, 2012, as supplemented by letters dated May 16, 2013, June 7, 2013, March 13, 2014, and May 30, 2014.

Brief description of amendment: The amendment revises the Renewed Facility Operating License and Technical Specifications (TSs) to reflect fuel storage system changes; a revised criticality safety analysis that addresses legacy fuel types, in addition to the planned use of AREVA ATRIUM™ 10XM fuel design; and adds a new TS 5.5.14, “Spent Fuel Pool Boral Monitoring Program,” for assuring that the spent fuel pool storage rack neutron absorber material (Boral) continues to meet the minimum requirements assumed in the criticality safety analysis.

Date of issuance: October 24, 2014.

Effective date: As of the date of issuance and shall be implemented within 60 days of issuance.

Amendment No.: 182. A publicly-available version is in ADAMS under Accession No. ML14197A020; documents related to this amendment are listed in the Safety Evaluation enclosed with the amendment.

Renewed Facility Operating License No. DPR-22: This amendment revises the Renewed Facility Operating License and the Technical Specifications.

Date of initial notice in Federal Register: June 11, 2013 (78 FR 35063). The supplemental letters dated May 16, 2013, June 7, 2013, and March 13, 2014, provided additional information that clarified the application, did not expand the scope of the application as originally noticed, and did not change the staff's original proposed no significant hazards consideration determination as published in the Federal Register. The Commission issued a revised no significant hazards consideration on June 24, 2014 (79 FR 35805), to consider the aspects of the new Boral monitoring program in TS 5.5.14 proposed in the May 30, 2014, supplemental letter.

The Commission's related evaluation of the amendment is contained in a Safety Evaluation dated October 24, 2014.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of application for amendments: March 24, 2014, as supplemented July 23, 2014.

Brief description of amendments: The amendments revise the Technical Specification (TS) Reactor Core Safety Limits 2.1.1.1 and 2.1.1.2 reactor steam dome pressure from 785 to 685 pounds per square inch guage (psig).

Date of issuance: October 20, 2014.

Effective date: As of the date of issuance and shall be implemented within 90 days from the date of issuance.

Amendment Nos.: Unit 1—269 and Unit 2—213. A publicly-available version is in ADAMS under Accession No. ML14276A634; documents related to this these amendments are listed in the Safety Evaluation enclosed with the amendments.

Renewed Facility Operating License Nos. DPR-57 and NPF-5: Amendments revised the licenses and the Technical Specifications.

Date of initial notice in Federal Register: June 24, 2014 (79 FR 35806). The supplemental letter dated July 23, 2014, provided additional information that clarified the application, did not expand the scope of the application as originally noticed, and did not change the staff's original proposed no significant hazards consideration determination as published in the Federal Register.

The Commission's related evaluation of the amendments is contained in a Safety Evaluation dated October 20, 2014.

No significant hazards consideration comments received: No.

Dated at Rockville, Maryland, this 31st day of October 2014.
For the Nuclear Regulatory Commission.
Michele G. Evans,
Director, Division of Operating Reactor Licensing, Office of Nuclear Reactor Regulation.

[FR Doc. 2014-26556 Filed 11-10-14; 8:45 am]

BILLING CODE 7590-01-P